ENVIRONMENTAL PROTECTION AGENCY

[FRL-7969-9]

Proposed CERCLA Administrative Agreement for Recovery of Past Response Costs; Lauli'i Cylinders Superfund Removal Site

AGENCY: Environmental Protection Agency (EPA).

ACTION: Notice; request for public comment.

SUMMARY: In accordance with section 122(i) of the Comprehensive Environmental Response, Compensation, and Liability Act, as amended by the Superfund Amendments and Reauthorization Action (“CERCLA”), 42 U.S.C. 9622(i), notice is hereby given of a proposed Administrative Order on Consent (“AOC,” Region 9 Docket No. 9-2005-0021) pursuant to section 122(h) of CERCLA concerning the Lauli'i Cylinders Removal Site (the “Site”), located in Lauli'i, American Samoa. The respondent to the AOC is FCF Fisheries Co. LTD (“FCF”), which arranged for the disposal of hazardous substances at the Site for which EPA incurred response costs.

Through the proposed AOC, FCF will reimburse the United States $20,000 of its response costs, which total approximately $130,000. The AOC provides FCF with a covenant not to sue and contribution protection for the costs and the removal action at the Site.

For thirty (30) days following the date of publication of this notice, the Agency will receive written comments relating to the proposed AOC. The Agency's response to any comments will be available for public inspection at EPA'S Region IX offices, located at 75 Hawthorne Street, San Francisco, California 94105.

DATES: Comments must be submitted on or before October 17, 2005.

ADDRESSES: The proposed Agreement may be obtained from Judith Winchell, Docket Clerk, telephone (415) 972-3124. Comments regarding the proposed Agreement should be addressed to Judith Winchell (SFD-7) at EPA Region IX, 75 Hawthorne Street, San Francisco, California 94105, and should reference the Lauli'i Cylinders Superfund Removal Site, Lauli'i, American Samoa, and USEPA Docket No. 9-2005-0021.

FOR FURTHER INFORMATION CONTACT: J. Andrew Helmlinger, Office of Regional Counsel, telephone (415) 972-3904, USEPA Region IX, 75 Hawthorne Street, San Francisco, California 94105.

Dated: September 2, 2005.
Keith A. Takata,
Director, Superfund Division.

[FR Doc. 05-18423 Filed 9-15-05; 8:45 am]

BILLING CODE 6560-50-P